DEPARTMENT OF ENERGY

Federal Energy Regulatory Commission

[Docket No. EG08-29-000; EG08-30-000; EG08-31-000; EG08-33-000; FC08-2-000]

Bicent (California) Malburg LLC; Kelson Energy III LLC; Lockport Energy Associates, L.P.; AES Hawaii, Inc.; Macquarie Group Limited; InfraVest Wind Power Co., Ltd.; Notice of Effectiveness of Exempt Wholesale Generator or Foreign Utility Company Status

April 18, 2008.

Take notice that during the month of March 2008, the status of the above-captioned entities as Exempt Wholesale Generators or Foreign Utility Companies became effective by operation of the Commission's regulations, with the exception of the entity that is the subject of the filing in Docket No. FC08-2-000, whose status became effective in February 2008. 18 CFR 366.7(a).

Kimberly D. Bose,
Secretary.

[FR Doc. E8-9015 Filed 4-23-08; 8:45 am]

BILLING CODE 6717-01-P